DEPARTMENT OF TRANSPORTATION

Federal Aviation Administration

Notice of Intent To Rule on Application To Impose and Use the Revenue From a Passenger Facility Charge (PFC) at Raleigh-Durham International Airport, Raleigh, NC

AGENCY: Federal Aviation Administration (FAA), DOT.

ACTION: Notice of intent to rule on application.

SUMMARY: The FAA proposes to rule and invites public comment on the application to impose and use the revenue from a PFC at Raleigh-Durham International Airport under the provisions of the Aviation Safety and Capacity Expansion Act of 1990 (Title IX of the Omnibus Budget Reconciliation Act of 1990) (Pub. L. 101-508) and part 158 of the Federal Aviation Regulations (14 CFR part 158).

DATES: Comments must be received on or before December 2, 2002.

ADDRESSES: Comments on this application may be mailed or delivered in triplicate to the FAA at the following address: Atlanta Airports District Office, 1701 Columbia Avenue, Suite 2-260, College Park, Georgia.

In addition, one copy of any comments submitted to the FAA must be mailed or delivered to John C. Brantley, III, Airport Director, of the Raleigh-Durham Airport Authority at the following address: 1000 Trade Drive, Post Office Box 80001, Raleigh, NC 27623.

Air carriers and foreign air carriers may submit copies of written comments previously provided to the Raleigh-Durham Airport Authority under section 158.23 of part 158.

FOR FURTHER INFORMATION CONTACT: Tracie D. Kleine, Program Manager, Atlanta Airports District Office, 1701 Columbia Avenue, Suite 2-260, College Park, Georgia 30337, (404) 305-7148. The application may be reviewed in person at this same location.

SUPPLEMENTARY INFORMATION: The FAA proposes to rule and invited public comment on the application to impose and use the revenue from a PFC at Raleigh-Durham International Airport under the provisions of the Aviation Safety and Capacity Expansion Act of 1990 (Title IX of the Omnibus Budget Reconciliation Act of 1990) (Pub. L. 101-508) and part 158 of the Federal Aviation Regulations (14 CFR part 158).

On October 21, 2002, the FAA determined that the application to impose and use the revenue from a PFC submitted by Raleigh-Durham Airport Authority was substantially complete within the requirements of section 158.25 of part 158. The FAA will approve or disapprove the application, in whole or in part, no later than February 12, 2002.

The following is a brief overview of the application.

PFC Application No.: 03-01-C-00-RDU.

Level of the proposed PFC: $3.00.

Proposed charge effective date: April 1, 2003.

Proposed charge expiration date: September 1, 2008.

Total estimated net PFC revenue: $69,903,473.

Brief description of proposed project(s):

Impose and Use:

◆ Surface Movement Guidance and Control System Plan and Improvements;

◆ Construct Taxiway J (includes International Drive Bridge);

◆ Design Runway 5R-23L Safety Area;

◆ Prepare PFC Application;

◆ Expand Terminal C Apron (includes relocating Taxiway “D”)

Impose and Use:

◆ Construct Runway 5R-23L Safety Area.

Class or classes of air carriers which the public agency has requested not be required to collect PFCs: Non-scheduled/On-Demand Air Carriers.

Any person may inspect the application in person at the FAA office listed above under for further information contact.

In addition, any person may, upon request, inspect the application, notice and other documents germane to the application in person at the Raleigh-Durham Airport Authority.

Issued in College Park, Georgia, on October 21, 2002.
Scott L. Seritt,
Manager, Atlanta Airports District Office, Southern Region.

[FR Doc. 02-27727 Filed 10-30-02; 8:45 am]

BILLING CODE 4910-13-M